DEPARTMENT OF LABOR

Employment and Training Administration

[TA-W-52,468]

Union Underwear Co., Inc., a.k.a. Fayette Cotton Mills, Inc., Fayette, AL; Notice of Termination of Investigation

Pursuant to section 221 of the Trade Act of 1974, an investigation was initiated on August 5, 2003, in response to a worker petition filed by a company official on behalf of workers at Union Underwear Co., Inc., a.k.a. Fayette Cotton Mills, Inc., Fayette, Alabama.

The petitioning group of workers is covered by an active certification issued on May 13, 2002 and which remains in effect (TA-W-41,349). Consequently, further investigation in this case would serve no purpose, and the investigation has been terminated.

Signed at Washington, DC, this 6th day of August, 2003.
Richard Church,
Certifying Officer, Division of Trade Adjustment Assistance.

[FR Doc. 03-21014 Filed 8-15-03; 8:45 am]

BILLING CODE 4510-30-P